FEDERAL MARITIME COMMISSION

Sunshine Act Meeting Notice

Agency Holding The Meeting: Federal Maritime Commission.

Time And Date: October 15, 2008—10 a.m.

Place: 800 North Capitol Street, NW., First Floor Hearing Room, Washington, DC.

Status: A portion of the meeting will be in Open Session and the remainder of the meeting will be in Closed Session.

Matters To Be Considered

Open Session

(1) Docket No. 06-06—EuroUSA Shipping, Inc., Tober Group, Inc., and Container Innovations, Inc. Possible Violations of Section 10 of the Shipping Act of 1984 and Commission's Regulations at 46 CFR 515.27.

(2) Docket No. 06-09—Parks International Shipping, Inc., Cargo Express International Shipping Inc., et al., Possible Violations of Sections 8(a) and 19 of the Shipping Act of 1984 and Commission's Regulation at 46 CFR Parts 515 and 520.

Closed Session

(1) FMC Agreement No. 201170-001, LA/Long Beach Port Infrastructure & Environmental Cooperative Working Agreement.

(2) Docket No. 08-05—City of Los Angeles, California, Harbor Department of the City of Los Angeles, Board of Harbor Commissioners of the City of Los Angeles, City of Long Beach, California, Harbor Department of the City of Long Beach, and the Board of Harbor Commissioners of the City of Long Beach—Possible Violations of Sections 10(b)(10), 10(d)(1) and 10(d)(4) of the Shipping Act of 1984.

(3) Internal Administrative Practices and Personnel Matters.

Contact Person for More Information: Karen V. Gregory, Secretary, (202) 523-5725.

Karen V. Gregory,
Secretary.

[FR Doc. E8-24325 Filed 10-8-08; 4:15 pm]

BILLING CODE 6730-01-P